DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held June 15-16, 2005, in the Soulard Room (banquet level) at the Millennium Hotel, 200 South 4th Street, St. Louis, MO. On June 15, 2005, the meeting will begin at 8:30 a.m. and conclude at approximately 4:30 p.m. On June 16, 2005, the meeting will begin at 8 a.m. and conclude at approximately 3:15 p.m. The meeting is open to the public.

The purpose of the Committee is to advise the Secretary of Veterans Affairs on the administration of national cemeteries, soldiers' lots and plots, the selection of new national cemetery sites, the erection of appropriate memorials, and the adequacy of Federal burial benefits. The Committee will make recommendations to the Secretary regarding these activities.

On June 15, 2005, the Committee will receive updates on National Cemetery Administration (NCA) issues and view Annual Training Conference classes on community volunteer opportunities, headstone and marker repair and inscription policy. In the afternoon, the Committee will tour Jefferson Barracks National Cemetery and observe cemetery operation demonstrations. On June 16, 2005, the Committee will reconvene for the following: Visit Jefferson Barracks National Cemetery and observe additional cemetery operations; tour NCA's National Training Center; and conclude with the business session, discussions of any unfinished business, and recommendations for future programs, meeting sites, and agenda topics.

Time will not be allocated for receiving oral presentations from the public. Any member of the public wishing to attend the meeting should contact Mr. Timothy Boulay, Designated Federal Officer, at (202) 273-5204. The Committee will accept written comments. Comments may be transmitted electronically to the Committee at Timothy.Boulay@mail.va.gov or mailed to the National Cemetery Administration (41C2), 810 Vermont Avenue, NW., Washington, DC 20420. In the public's communications with the Committee, the writers must identify themselves and state the organizations, associations, or persons they represent.

Dated: April 29, 2005.
By Direction of the Secretary.
E. Philip Riggin,
Committee Management Officer.

[FR Doc. 05-9235 Filed 5-6-05; 8:45 am]

BILLING CODE 8320-01-M